DEPARTMENT OF ENERGY

Federal Energy Regulatory Commission

[Docket No. PF10-24-000]

Sabine Pass Liquefaction LLC, and Sabine Pass LNG, L.P.; Notice of Intent To Prepare an Environmental Assessment for the Planned Sabine Pass Liquefaction Project and Request for Comments on Environmental Issues

October 29, 2010.

The staff of the Federal Energy Regulatory Commission (FERC or Commission) will prepare an environmental assessment (EA) that will discuss the environmental impacts of the Sabine Pass Liquefaction Project (Project) involving construction and operation of facilities by Sabine Pass Liquefaction LLC, and Sabine Pass LNG, L.P. (collectively referred to as Sabine Pass) in Cameron County, Louisiana. This EA will be used by the Commission in its decision-making process to determine whether the Project is in the public convenience and necessity.

This notice announces the opening of the scoping process the Commission will use to gather input from the public and interested agencies on the project. Your input during the scoping process will help the Commission staff determine what issues need to be evaluated in the EA. The Commission staff will also use the scoping process to help determine whether preparation of an environmental impact statement (EIS) is more appropriate for this Project based upon the potential significance of the anticipated levels of impact. Please note that the scoping period will close on November 29, 2010. This is not your only public input opportunity; please refer to the Environmental Review Process flow chart in Appendix 1.¹

¹ The appendices referenced in this notice are not being printed in the Federal Register. Copies of appendices were sent to all those receiving this notice in the mail and are available at http://www.ferc.gov using the link called “eLibrary” or from the Commission's Public Reference Room, 888 First Street, NE., Washington, DC 20426, or call (202) 502-8371. For instructions on connecting to eLibrary, refer to the last page of this notice.

This notice is being sent to the Commission's current environmental mailing list for this Project. State and local government representatives are asked to notify their constituents of this planned Project and encourage them to comment on their areas of concern.

Involvement of U.S. Department of Energy

The FERC is the lead federal agency in preparation of an EA that will satisfy the requirements of the National Environmental Policy Act (NEPA). The U.S. Department of Energy, Office of Fossil Energy (DOE) has agreed to participate as a cooperating agency in the preparation of the EA to satisfy its NEPA responsibilities. DOE proposes to authorize Sabine Pass Liquefaction, LLC to export liquefied natural gas (LNG) from the Sabine Pass LNG Terminal (SPLNG Terminal) if DOE determines that such export is in the public interest.

The DOE must meet its obligation under section 3 of the Natural Gas Act of 1938, as amended (NGA), to authorize the import and export of natural gas, including LNG, unless it finds that the proposed import or export will not be consistent with the public interest. The purpose and need for DOE action is to respond to the September 7, 2010, application filed with DOE (FE Docket No. 10-111-LNG) by Sabine Pass Liquefaction, LLC, in conjunction with the Sabine Pass Liquefaction Project. Sabine Pass Liquefaction, LLC has applied to DOE for blanket authorization to export up to 16 million metric tons per annum (mtpa) of domestic natural gas as LNG for a 20-year period, commencing the earlier of the date of first export or five years from the date of issuance of the requested authorization, from the Sabine Pass LNG Terminal to any country: (1) With which the United States does not have a free trade agreement requiring the national treatment for trade in natural gas and LNG; (2) that has, or in the future develops, the capacity to import LNG; and (3) with which trade is not prohibited by U.S. law or policy.

Summary of the Planned Project Before FERC

Sabine Pass plans to add natural gas liquefaction and exportation capabilities to the existing Sabine Pass LNG Import Terminal in Cameron Parish, Louisiana. The Sabine Pass Liquefaction Project would consist of the construction and installation of facilities to be used for the liquefaction and exportation of natural gas. All Project facilities would be constructed and operated within the existing 853-acre SPLNG Terminal Site. Sabine Pass plans to construct the Project in two stages, with anticipated in-service starting in January 2015.

The Project would be capable of processing an average of approximately 2.6 billion cubic feet per day (Bcf/d) of pipeline quality natural gas from the Creole Trail Pipeline, which interconnects with the SPLNG Terminal. Sabine Pass would liquefy the natural gas, store the LNG, and export approximately 16 mtpa of LNG via LNG carriers.

According to Sabine Pass, its Project would improve the outlook for domestic natural gas production, owing to drilling productivity gains that have enabled rapid growth in supplies from unconventional, and particularly shale, gas-bearing formations in the United States. The exportation of LNG would provide a market solution to allow the further deliberate development of these sources of natural gas.

More specifically, the Project would consist of the following facilities:

• Four LNG liquefaction trains (each train contains gas treatment facilities, six gas turbine-driven refrigerant compressors, waste heat recovery systems, induced draft air coolers, fire and gas detection and safety systems, control systems, and associated infrastructure);

• Additional power generation (including up to two gas turbine-driven generators, transformers, and other electrical accessories to supplement existing onsite power generation);

• Other infrastructure and modifications (including storage tanks for propane and ethylene refrigerants and the amine make up, replacement of in-tank LNG pumps and piping modifications to increase flow capacity and facilitate loading of LNG carriers, impoundments for the liquefaction trains, flares, recycle boil-off gas compressors, potable water, service water, and demineralized water systems); and

• New and remodeled buildings.

In addition, a LNG storage tank and impoundment that were previously authorized under FERC Docket CP05-396-000 but not built would be constructed to provide additional LNG storage for the Project.

The general location of the Project facilities is shown in Appendix 2.

Land Requirements for Construction

Construction of the planned facilities would disturb about 243 acres of land. Following construction, about 203 acres would be maintained for permanent operation of the Project's facilities; the remaining acreage would be restored and allowed to revert to former uses. All planned activities would occur within the existing 853-acre SPLNG Terminal site.

The EA Process

NEPA requires the Commission to take into account the environmental impacts that could result from an action whenever it considers the issuance of a Certificate of Public Convenience and Necessity. NEPA also requires us ² to discover and address concerns the public may have about proposals. This process is referred to as scoping. The main goal of the scoping process is to focus the analysis in the EA on the important environmental issues. By this notice, the Commission requests public comments on the scope of the issues to address in the EA. All comments received will be considered during the preparation of the EA.

² “We,” “us,” and “our” refer to the environmental staff of the Commission's Office of Energy Projects.

In the EA we will discuss impacts that could occur as a result of the construction and operation of the planned Project under these general headings:

• Geology and soils;

• water resources and fisheries;

• floodplains and wetlands;

• vegetation and wildlife;

• endangered and threatened species;

• socioeconomics;

• land use;

• cultural resources;

• air quality and noise; and

• public safety.

We will also evaluate possible alternatives to the planned Project or portions of the Project, including the no action alternative, and make recommendations on how to lessen or avoid impacts on the various resource areas.

Although no formal application has been filed, we have already initiated our NEPA review under the Commission's Pre-filing Process. The purpose of the Pre-filing Process is to encourage early involvement of interested stakeholders and to identify and resolve issues before an application is filed with the FERC. As part of our pre-filing review, we have begun to contact some federal and state agencies to discuss their involvement in the scoping process and the preparation of the EA. In addition, representatives from FERC participated in the public open house sponsored by Sabine Pass in the Project area in September 2010 to explain the Environmental Review Process to interested stakeholders.

Our independent analysis of the issues will be presented in the EA. If the Commission staff determines the preparation of an EA is appropriate, the EA will be placed in the public record and be published and distributed to the public. A comment period will be allotted when the EA is noticed. We will consider all comments on the EA before we make our recommendations to the Commission. To ensure your comments are considered, please carefully follow the instructions in the Public Participation section beginning on page 6.

With this notice, we are asking agencies with jurisdiction and/or special expertise with respect to environmental issues to formally cooperate with us in the preparation of the EA. These agencies may choose to participate once they have evaluated the proposal relative to their responsibilities. Agencies that would like to request cooperating agency status should follow the instructions for filing comments provided under the Public Participation section of this notice. Currently, the DOE has expressed its intention to participate as a cooperating agency in the preparation of the EA to satisfy its NEPA responsibilities related to this Project.

Consultations Under Section 106 of the National Historic Preservation Act

In accordance with the Advisory Council on Historic Preservation's implementing regulations for section 106 of the National Historic Preservation Act, we are using this notice to initiate consultation with applicable State Historic Preservation Office(s), and to solicit their views and those of other government agencies, interested Indian tribes, and the public on the Project's potential effects on historic properties.³ We will define the project-specific Area of Potential Effects (APE) in consultation with the SHPO(s) as the Project is further developed. On natural gas facility projects, the APE at a minimum encompasses all areas subject to ground disturbance (examples include construction right-of-way, contractor/pipe storage yards, compressor stations, and access roads). Our EA for this Project will document our findings on the impacts on historic properties and summarize the status of consultations under section 106.

³ The Advisory Council on Historic Preservation's regulations are at Title 36, Code of Federal Regulations, Part 800. Historic properties are defined in those regulations as any prehistoric or historic district, site, building, structure, or object included in or eligible for inclusion in the National Register for Historic Places.

Currently Identified Environmental Issues

We have already identified several issues that we think deserve attention based on a preliminary review of the planned facilities and the environmental information provided by Sabine Pass. This preliminary list of issues may be changed based on your comments and our analysis.

• Floodplains;

• Socioeconomics;

• Air quality; and

• Public safety.

Notice of Floodplain Involvement

Because the proposed Project may involve actions in floodplains, in accordance with Title 10 of the Code of Federal Regulations, Part 1022, Compliance with Floodplain and Wetland Environmental Review Requirements, the EA will include a floodplain assessment as appropriate, and a floodplain statement of findings will be included in any DOE finding of no significant impact.

Public Participation

You can make a difference by providing us with your specific comments or concerns about the Project. Your comments should focus on the potential environmental effects, reasonable alternatives, and measures to avoid or lessen environmental impacts. The more specific your comments, the more useful they will be. To ensure that your comments are timely and properly recorded, please send your comments so that they will be received in Washington, DC on or before November 29, 2010.

For your convenience, there are three methods you can use to submit your comments to the Commission. In all instances, please reference the Project docket number PF10-24-000 with your submission. The Commission encourages electronic filing of comments and has expert eFiling staff available to assist you at (202) 502-8258 or efiling@ferc.gov.

(1) You may file your comments electronically by using the eComment feature, which is located on the Commission's Web site at http://www.ferc.gov under the link to Documents and Filings. An eComment is an easy method for interested persons to submit brief, text-only comments on a project;

(2) You may file your comments electronically by using the eFiling feature, which is located on the Commission's Web site at http://www.ferc.gov under the link to Documents and Filings. With eFiling you can provide comments in a variety of formats by attaching them as a file with your submission. New eFiling users must first create an account by clicking on “eRegister.” You will be asked to select the type of filing you are making. A comment on a particular project is considered a “Comment on a Filing”; or

(3) You may mail a paper copy of your comments to the Commission at the following address: Kimberly D. Bose, Secretary, Federal Energy Regulatory Commission, 888 First Street, NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the Project. We will update the environmental mailing list as the analysis proceeds to ensure that we send the information related to this environmental review to all individuals, organizations, and government entities interested in and/or potentially affected by the planned Project.

When an EA is published for distribution, copies will be sent to the environmental mailing list for public review and comment. If you would prefer to receive a paper copy of the document instead of the CD version or would like to remove your name from the mailing list, please return the attached Information Request (Appendix 3).

Becoming an Intervenor

Once Sabine Pass files its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are included in the User's Guide under the “e-filing” link on the Commission's Web site. Please note that the Commission will not accept requests for intervenor status at this time. You must wait until a formal application for the Project is filed with the Commission.

Additional Information

Additional information about the Project is available from the Commission's Office of External Affairs, at (866) 208-FERC, or on the FERC Web site (http://www.ferc.gov) using the eLibrary link. Click on the eLibrary link, click on “General Search” and enter the docket number, excluding the last three digits in the Docket Number field (i.e., PF10-24). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to http://www.ferc.gov/esubscribenow.htm.

Public meetings or site visits will be posted on the Commission's calendar located at http://www.ferc.gov/EventCalendar/EventsList.aspx along with other related information.

Finally, Sabine Pass has established a Web site for this Project at http://www.cheniere.com. The Web site includes a Project overview, timeline, environmental information, and answers to frequently asked questions. You can also request additional information by contacting Patricia Outtrim at Sabine Pass via e-mail at pat.outtrim@cheniere.com or by calling (713) 375-5212.

Kimberly D. Bose,
Secretary.

[FR Doc. 2010-27991 Filed 11-4-10; 8:45 am]

BILLING CODE 6717-01-P